DEPARTMENT OF TRANSPORTATION

Maritime Administration

Marine Highway Projects Open Season

AGENCY: Maritime Administration, Department of Transportation.

ACTION: Notice of Open Season for Marine Highway Projects.

SUMMARY: The U.S. Department of Transportation (DOT) and Maritime Administration (MARAD) announce that the open season for Marine Highway project submissions begins today and ends on September 30, 2016. The purpose of this notice is to invite interested parties to submit Marine Highway project applications to DOT for review and consideration. Marine Highway route recommendations will continue to be accepted and reviewed at any time.

Since the last open season, the program's originating authority, the Energy Independence and Security Act of 2007, has been amended to include short sea routes that do not have parallel landside routes. Accordingly, the Department can now review and consider designating Marine Highway routes and projects between all U.S. ports, including U.S. ports with no contiguous landside connection, as well as between U.S. ports and ports in Canada located in the Great Lakes Saint Lawrence Seaway System.

DATES: There will be five project review sessions during the Marine Highway Project Open Season, and route designation recommendations will continue to be accepted and reviewed at any time. Table 1 contains the project application due dates and review periods for each review session. Qualified projects will be announced shortly after the completion of each project review session.

Table 1—Open Season Project Submission and Review Timeline
Review session | Project application due date (11:59 p.m. Pacific) | Project review period
1 | June 30, 2014 | July 1, 2014-September 30, 2014.
2 | December 31, 2014 | January 1, 2015-March 31, 2015.
3 | June 30, 2015 | July 1, 2015-September 30, 2015.
4 | December 31, 2015 | January 1, 2016-March 31, 2016.
5 | June 30, 2016 | July 1, 2016-September 30, 2016.

Key Instructions/Information: The Marine Highway project application process is detailed in 46 CFR 393.4 Marine Highway Projects, which is accessible online at https://www.federalregister.gov/articles/2010/04/09/2010-7899/americas-marine-highway-program. MARAD's Gateway Offices can respond to questions about the Marine Highway Program, Route designations, and Project Open Season, and their contact information is available on the MARAD Web site at the following URL: http://www.marad.dot.gov/about_us_landing_page/gateway_offices/Gateway_Presence.htm.

ADDRESSES: Submit applications to Stephen Shafer, Office of Intermodal System Development, W21-315, U.S. Department of Transportation, Maritime Administration, 1200 New Jersey Avenue SE., Washington, DC 20590 or via email to mh@dot.gov. Telephone (202) 366-5468; Fax (202) 366-5904.

FOR FURTHER INFORMATION CONTACT: Stephen Shafer, Office of Intermodal System Development, W21-315, U.S. Department of Transportation, Maritime Administration, 1200 New Jersey Avenue SE., Washington, DC 20590. Telephone (202) 366-5468; Fax (202) 366-5904 or email Mr. Shafer at mh@dot.gov. You may also visit MARAD's Marine Highway Web page at http://www.marad.dot.gov/ships_shipping_landing_page/mhi_home/mhi_home.htm and click on “Final Rule in the Federal Register” for special instructions.

SUPPLEMENTARY INFORMATION: Since the last call for Marine Highway projects on April 15, 2010, the scope of the Marine Highway Program has been expanded to include all of the United States domestic marine transportation system. Previously, the Program only included waterways that paralleled landside transportation routes, and thus, excluded routes between the mainland and non-contiguous ports. The expanded scope comes from Section 405 of The Coast Guard and Marine Transportation Act of 2012 (Pub. L. 112-213), which reads: “[t]he Secretary shall designate short sea transportation routes as extensions of the surface transportation system to focus public and private efforts to use the waterways to relieve landside congestion along coastal corridors or to promote short sea transportation.”

The purpose of the open season call for projects is to seek eligible Marine Highway projects that may establish new or enhance existing Marine Highway services. Eligible projects may be designated as Marine Highway Projects by the Secretary of Transportation. Being designated a Marine Highway Project allows Department of Transportation resources to be used to assist public project sponsors, ports, and other local transportation or economic development agencies in the development of Marine Highway projects.

The Department's objective through this program is to reduce landside congestion and increase the use of domestic marine transportation by supporting the development of transportation options for shippers. These services provide economic and environmental benefits to the U.S. public at large. Marine Highway Program designated projects can improve safety and system resilience, and serve to reduce transportation-related air emissions, transportation costs for shippers, energy consumption, and costs associated with landside transportation infrastructure.

The Marine Highway Program implementing regulations at 46 CFR Part 393 will be amended to reflect the new statutory changes. In the meantime, the Department of Transportation will accept and process project applications that propose to operate or expand service on Marine Highway routes, including those with no parallel landside route.

Exceptions to This Open Season

If new Marine Highway grant funds are appropriated in a fiscal year, it is possible that the review period for the July 1-September 30 review session may be truncated so that projects submitted on June 30 could be made eligible to apply for those Marine Highway grant funds.

Participation

Although Marine Highway Projects often involve private entities such as vessel operators, the applications must be sponsored and submitted to the Department of Transportation by a public entity, such as a State Department of Transportation, Metropolitan Planning Organization (MPO), or Port Authority. Public/private partnerships are encouraged.

To be eligible for Marine Highway Project status, the proposed project must (1) use U.S. documented vessels, (2) transport passengers, containerized freight, or trailer-based freight, and (3) operate on a designated Marine Highway Route. (Please see 46 CFR 393.4(c) for a comprehensive description of project eligibility). However, because the number of navigable waterways eligible for designation as a Marine Highway Route was increased in the Coast Guard and Marine Transportation Act of 2012, the Department will consider Marine Highway projects that would operate on newly eligible navigable waterways that have been recommended for, but not yet granted, a Marine Highway Route designation. For further information on recommending that a navigable waterway be designated as a Marine Highway Route, please contact your regional Gateway Office. Their contact information is available on MARAD's Web site at http://www.marad.dot.gov/about_us_landing_page/gateway_offices/Gateway_Presence.htm.

Authority: 49 CFR 1.92 and 1.93.

* * * * *

Dated: May 27, 2014.
By Order of the Maritime Administrator.
Thomas M. Hudson,
Secretary, Maritime Administration.

[FR Doc. 2014-12602 Filed 5-30-14; 8:45 am]

BILLING CODE 4910-81-P